DEPARTMENT OF HEALTH AND HUMAN SERVICES

National Institutes of Health

Office of the Director, Office of Science Policy, Office of Biotechnology Activities; Amended Notice of Meeting

Notice is hereby given of a change in the meeting of the National Science Advisory Board for Biosecurity, November 04, 2016, 12:00 p.m. to November 04, 2016, 03:00 p.m., National Institutes of Health, 6705 Rockledge Drive, Suite 750, Bethesda, MD, 20892 which was published in the Federal Register on October 11, 2016, 81FR 196.

The call-in number has changed to 1 (866) 939-3921 and the passcode is 43519965. The meeting date, time and location remains the same. The meeting is open to the public.

Dated: October 21, 2016.
Sylvia L. Neal,
Program Analyst, Office of Federal Advisory Committee Policy.

[FR Doc. 2016-25921 Filed 10-25-16; 8:45 am]

BILLING CODE 4140-01-P